DEPARTMENT OF HEALTH AND HUMAN SERVICES

National Institutes of Health

Prospective Grant of Exclusive License: Methods and Compositions for the Promotion of Hair Growth Utilizing Actin Binding Peptides

AGENCY: National Institutes of Health, Public Health Services, DHHS.

ACTION: None.

SUMMARY: This is notice, in accordance with 35 U.S.C. 209(c)(1) and 37 CFR 404.7(a)(1)(i), that the National Institutes of Health, Department of Health and Human Services, is contemplating the grant of an exclusive license to practice the invention embodied in U.S. provisional patent application 60/351,386 (DHHS ref. no. E-053-2002/0-US-01) filed January 25, 2002, and entitled “Methods and compositions for the promotion of hair growth utilizing actin binding peptides,” to Lee's Pharmaceutical (Hong Kong) Ltd. having a place of business in Hong Kong. The patent rights in this invention have been assigned to the United States of America.

The prospective exclusive license territory will be China, Hong Kong and Taiwan. The field of use may be limited to use of actin binding peptides for the promotion of hair growth.

DATES: Only written comments and/or license applications which are received by the National Institutes of Health on or before February 24, 2003, will be considered.

ADDRESSES: Requests for copies of the patent(s)/patent application(s), inquiries, comments and other materials relating to the contemplated exclusive license should be directed to: Jonathan V. Dixon, Technology Licensing Specialist, Office of Technology Transfer, National Institutes of Health, 6011 Executive Boulevard, Suite 325, Rockville, MD 20852-3804; Telephone: 301.435.5559; Facsimile 301.402.0220; email dixonj@od.nih.gov.

SUPPLEMENTARY INFORMATION: The above-referenced patent application relates to the discovery of actin binding peptides that have been shown to promote hair growth. Specifically the patent application discloses a seven amino acid peptide of Thymosin-beta4 that promotes hair growth.

The prospective exclusive license will be royalty-bearing and will comply with the terms and conditions of 35 U.S.C. 209 and 37 CFR 404.7. The prospective exclusive license may be granted unless within 60 days from the date of this published notice, the NIH receives written evidence and argument that establish that the grant of the license would not be consistent with the requirements of 35 U.S.C. 209 and 37 CFR 404.7.

Applications for a license in the field of use filed in response to this notice will be treated as objections to the grant of the contemplated exclusive license. Comments and objections submitted to this notice will not be made available for public inspection and, to the extent permitted by law, will not be released under the Freedom of Information Act, 5 U.S.C. 552.

Dated: December 13, 2002.
Jack Spiegel,
Director, Division of Technology Development and Transfer, Office of Technology Transfer.

[FR Doc. 02-32347 Filed 12-23-02; 8:45 am]

BILLING CODE 4140-01-P